DEPARTMENT OF THE INTERIOR

Bureau of Land Management

[WY-920-1430-EU; WYW 146252]

Opening of National Forest System Land; Wyoming

AGENCY: Bureau of Land Management, Interior.

ACTION: Notice.

SUMMARY: This notice terminates the temporary segregative effect as to 199.98 acres of National Forest System lands which were originally included in an application for exchange in the Medicine Bow National Forest.

EFFECTIVE DATE: February 16, 2000.

FOR FURTHER INFORMATION CONTACT: Jimi Metzger, BLM Wyoming State Office, 5353 Yellowstone Rd., P.O. Box 1828, Cheyenne, Wyoming 82003, 307-775-6250.

SUPPLEMENTARY INFORMATION: Pursuant to the regulations contained in 43 CFR 2091.3-2(b), at 9 a.m. on February 16, 2000, the following described lands will be relieved of the temporary segregative effect of exchange application WYW 146252.

Sixth Principal Meridian, Wyoming

T. 27 N., R. 71 W.,

Sec. 3, lots 3 and 4, SW¼NE¼, S½NW¼.

The area described contains 199.98 acres in Albany County.

At 9 a.m. on February 16, 2000, the lands shall be opened to such forms of disposition as may by law be made of National Forest System lands, including location and entry under the United States mining laws, subject to valid existing rights, the provisions of existing withdrawals, other segregations of record, and the requirements of applicable law. Appropriation of lands described in this order under the general mining laws prior to the date and time of restoration is unauthorized. Any such attempted appropriation, including attempted adverse possession under 30 U.S.C. 38 (1988) shall vest no rights against the United States. Acts required to establish a location and to initiate a right of possession are governed by State law where not in conflict with Federal law. The BLM will not intervene in disputes between rival locators over possessory rights since Congress has provided for such determination in local courts.

Dated: February 9, 2000.
Tamara J. Gertsch,
Acting Chief, Mineral & Lands Authorization Group.

[FR Doc. 00-3612 Filed 2-15-00; 8:45 am]

BILLING CODE 4310-22-P